DEPARTMENT OF ENERGY

Federal Energy Regulatory Commission

Combined Notice of Filings #2

Take notice that the Commission received the following electric rate filings:

Docket Numbers: ER24-1088-000.

Applicants: NorthWestern Energy Public Service Corporation.

Description: 205(d) Rate Filing: NWPS Revised Market-Based Rate Tariff to be effective 2/1/2024.

Filed Date: 1/31/24.

Accession Number: 20240131-5159.

Comment Date: 5 p.m. ET 2/21/24.

Docket Numbers: ER24-1089-000.

Applicants: NorthWestern Corporation.

Description: 205(d) Rate Filing: Revised Market-Based Rate Tariff to be effective 2/1/2024.

Filed Date: 1/31/24.

Accession Number: 20240131-5162.

Comment Date: 5 p.m. ET 2/21/24.

Docket Numbers: ER24-1090-000.

Applicants: Southwest Power Pool, Inc.

Description: 205(d) Rate Filing: 2236R17 Golden Spread Electric Cooperative, Inc. NITSA NOA to be effective 1/1/2024.

Filed Date: 1/31/24.

Accession Number: 20240131-5163.

Comment Date: 5 p.m. ET 2/21/24.

Docket Numbers: ER24-1091-000.

Applicants: FirstEnergy Pennsylvania Electric Company, PJM Interconnection, L.L.C.

Description: 205(d) Rate Filing: FirstEnergy Pennsylvania Electric Company submits tariff filing per 35.13(a)(2)(iii: FE PA submits Amended IA, SA No. 4929 re: FirstEnergy Reorganization to be effective 1/1/2024.

Filed Date: 1/31/24.

Accession Number: 20240131-5171.

Comment Date: 5 p.m. ET 2/21/24.

Docket Numbers: ER24-1092-000.

Applicants: Think Energy, LLC.

Description: Compliance filing: Notice of Change in Status and Revised MBR of Think Energy to be effective 2/1/2024.

Filed Date: 1/31/24.

Accession Number: 20240131-5176.

Comment Date: 5 p.m. ET 2/21/24.

Docket Numbers: ER24-1093-000.

Applicants: FirstEnergy Pennsylvania Electric Company, PJM Interconnection, L.L.C.

Description: 205(d) Rate Filing: FirstEnergy Pennsylvania Electric Company submits tariff filing per 35.13(a)(2)(iii: FE PA submits Amended IA, SA No. 5110 re: FirstEnergy Reorganization to be effective 1/1/2024.

Filed Date: 1/31/24.

Accession Number: 20240131-5187.

Comment Date: 5 p.m. ET 2/21/24.

Docket Numbers: ER24-1094-000.

Applicants: EcoGrove Wind LLC.

Description: Compliance filing: EcoGrove Wind LLC, Change in Status to be effective 2/1/2024.

Filed Date: 1/31/24.

Accession Number: 20240131-5215.

Comment Date: 5 p.m. ET 2/21/24.

Docket Numbers: ER24-1095-000.

Applicants: High Point Solar LLC.

Description: Compliance filing: High Point Solar Change in Status to be effective 2/1/2024.

Filed Date: 1/31/24.

Accession Number: 20240131-5216.

Comment Date: 5 p.m. ET 2/21/24.

Docket Numbers: ER24-1096-000.

Applicants: California Ridge Wind Energy LLC.

Description: Compliance filing: Revised Market-Based Rate Tariff to be effective 2/1/2024.

Filed Date: 1/31/24.

Accession Number: 20240131-5232.

Comment Date: 5 p.m. ET 2/21/24.

Docket Numbers: ER24-1097-000.

Applicants: Catalyst Old River Hydroelectric Limited Partnership.

Description: Compliance filing: Revised Market-Based Rate Tariff to be effective 2/1/2024.

Filed Date: 1/31/24.

Accession Number: 20240131-5236.

Comment Date: 5 p.m. ET 2/21/24.

Docket Numbers: ER24-1098-000.

Applicants: Evolugen Trading and Marketing LP.

Description: Compliance filing: Revised Market-Based Rate Tariff to be effective 2/1/2024.

Filed Date: 1/31/24.

Accession Number: 20240131-5240.

Comment Date: 5 p.m. ET 2/21/24.

Docket Numbers: ER24-1099-000.

Applicants: Prairie Breeze Wind Energy LLC.

Description: Compliance filing: Revised Market-Based Rate Tariff to be effective 2/1/2024.

Filed Date: 1/31/24.

Accession Number: 20240131-5241.

Comment Date: 5 p.m. ET 2/21/24.

Docket Numbers: ER24-1100-000.

Applicants: Alabama Power Company, Georgia Power Company, Mississippi Power Company.

Description: 205(d) Rate Filing: Alabama Power Company submits tariff filing per 35.13(a)(2)(iii: City of Evergreen NITSA Amendment Filing to be effective 1/1/2024.

Filed Date: 1/31/24.

Accession Number: 20240131-5242.

Comment Date: 5 p.m. ET 2/21/24.

Docket Numbers: ER24-1101-000.

Applicants: TerraForm IWG Acquisition Holdings II, LLC.

Description: Compliance filing: Revised Market-Based Rate Tariff to be effective 2/1/2024.

Filed Date: 1/31/24.

Accession Number: 20240131-5245.

Comment Date: 5 p.m. ET 2/21/24.

Docket Numbers: ER24-1102-000.

Applicants: PJM Interconnection, L.L.C.

Description: 205(d) Rate Filing: Amendment to SA Nos. 2038 and 1613 re: FE Reorg to be effective 1/1/2024.

Filed Date: 1/31/24.

Accession Number: 20240131-5247.

Comment Date: 5 p.m. ET 2/21/24.

Docket Numbers: ER24-1103-000.

Applicants: Alabama Power Company, Georgia Power Company, Mississippi Power Company.

Description: Tariff Amendment: Alabama Power Company submits tariff filing per 35.15: SWE (Black Warrior) NITSA Termination Filing to be effective 12/31/2023.

Filed Date: 1/31/24.

Accession Number: 20240131-5248.

Comment Date: 5 p.m. ET 2/21/24.

Docket Numbers: ER24-1104-000.

Applicants: Alabama Power Company, Georgia Power Company, Mississippi Power Company.

Description: 205(d) Rate Filing: Alabama Power Company submits tariff filing per 35.13(a)(2)(iii: SWE-Black Warrior NITSA Filing to be effective 1/1/2024.

Filed Date: 1/31/24.

Accession Number: 20240131-5252.

Comment Date: 5 p.m. ET 2/21/24.

Docket Numbers: ER24-1105-000.

Applicants: Palmer Solar, LLC.

Description: Compliance filing: Revised Market-Based Rate Tariff to be effective 2/1/2024.

Filed Date: 1/31/24.

Accession Number: 20240131-5254.

Comment Date: 5 p.m. ET 2/21/24.

Docket Numbers: ER24-1106-000.

Applicants: Alabama Power Company, Georgia Power Company, Mississippi Power Company.

Description: Tariff Amendment: Alabama Power Company submits tariff filing per 35.15: SWE (Tombigbee) NITSA Termination Filing to be effective 12/31/2023.

Filed Date: 1/31/24.

Accession Number: 20240131-5255.

Comment Date: 5 p.m. ET 2/21/24.

Docket Numbers: ER24-1107-000.

Applicants: Pike Solar LLC.

Description: Compliance filing: Revised Market-Based Rate Tariff to be effective 2/1/2024.

Filed Date: 1/31/24.

Accession Number: 20240131-5257.

Comment Date: 5 p.m. ET 2/21/24.

Docket Numbers: ER24-1108-000.

Applicants: Alabama Power Company, Georgia Power Company, Mississippi Power Company.

Description: 205(d) Rate Filing: Alabama Power Company submits tariff filing per 35.13(a)(2)(iii: SWE-Tombigbee NITSA Filing to be effective 1/1/2024.

Filed Date: 1/31/24.

Accession Number: 20240131-5259.

Comment Date: 5 p.m. ET 2/21/24.

Docket Numbers: ER24-1109-000.

Applicants: Pumpjack Solar I, LLC.

Description: Compliance filing: Revised Market-Based Rate Tariff to be effective 2/1/2024.

Filed Date: 1/31/24.

Accession Number: 20240131-5260.

Comment Date: 5 p.m. ET 2/21/24.

Docket Numbers: ER24-1110-000.

Applicants: Alabama Power Company, Georgia Power Company, Mississippi Power Company.

Description: 205(d) Rate Filing: Alabama Power Company submits tariff filing per 35.13(a)(2)(iii: SCPSA Conditional Long-Term Firm PTP Service Agreement Filing to be effective 1/1/2024.

Filed Date: 1/31/24.

Accession Number: 20240131-5264.

Comment Date: 5 p.m. ET 2/21/24.

Docket Numbers: ER24-1111-000.

Applicants: Rio Bravo Solar I, LLC.

Description: Compliance filing: Revised Market-Based Rate Tariff to be effective 2/1/2024.

Filed Date: 1/31/24.

Accession Number: 20240131-5266.

Comment Date: 5 p.m. ET 2/21/24.

Docket Numbers: ER24-1112-000.

Applicants: Alabama Power Company, Georgia Power Company, Mississippi Power Company.

Description: 205(d) Rate Filing: Alabama Power Company submits tariff filing per 35.13(a)(2)(iii: City of Hartford NITSA Amendment Filing to be effective 1/1/2024.

Filed Date: 1/31/24.

Accession Number: 20240131-5268.

Comment Date: 5 p.m. ET 2/21/24.

Docket Numbers: ER24-1113-000.

Applicants: Rio Bravo Solar II, LLC.

Description: Compliance filing: Revised Market-Based Rate Tariff to be effective 2/1/2024.

Filed Date: 1/31/24.

Accession Number: 20240131-5269.

Comment Date: 5 p.m. ET 2/21/24.

Docket Numbers: ER24-1114-000.

Applicants: Seville Solar One LLC.

Description: Compliance filing: Revised Market-Based Rate Tariff to be effective 2/1/2024.

Filed Date: 1/31/24.

Accession Number: 20240131-5274.

Comment Date: 5 p.m. ET 2/21/24.

Docket Numbers: ER24-1115-000.

Applicants: Seville Solar Two, LLC.

Description: Compliance filing: Revised Market-Based Rate Tariff to be effective 2/1/2024.

Filed Date: 1/31/24.

Accession Number: 20240131-5275.

Comment Date: 5 p.m. ET 2/21/24.

Docket Numbers: ER24-1116-000.

Applicants: Shoreham Solar Commons LLC.

Description: Compliance filing: Revised Market-Based Rate Tariff to be effective 2/1/2024.

Filed Date: 1/31/24.

Accession Number: 20240131-5279.

Comment Date: 5 p.m. ET 2/21/24.

Docket Numbers: ER24-1117-000.

Applicants: Silver Sage Windpower, LLC.

Description: Compliance filing: Revised Market-Based Rate Tariff to be effective 2/1/2024.

Filed Date: 1/31/24.

Accession Number: 20240131-5282.

Comment Date: 5 p.m. ET 2/21/24.

Docket Numbers: ER24-1118-000.

Applicants: Tallbear Seville LLC.

Description: Compliance filing: Revised Market-Based Rate Tariff to be effective 2/1/2024.

Filed Date: 1/31/24.

Accession Number: 20240131-5287.

Comment Date: 5 p.m. ET 2/21/24.

Docket Numbers: ER24-1119-000.

Applicants: Vineyard Wind 1 LLC.

Description: 205(d) Rate Filing: Normal filing 2024 revised to be effective 4/1/2024.

Filed Date: 1/31/24

Accession Number: 20240131-5290.

Comment Date: 5 p.m. ET 2/21/24.

Docket Numbers: ER24-1120-000.

Applicants: Three Buttes Windpower, LLC.

Description: Compliance filing: Revised Market-Based Rate Tariff to be effective 2/1/2024.

Filed Date: 1/31/24.

Accession Number: 20240131-5293.

Comment Date: 5 p.m. ET 2/21/24.

Docket Numbers: ER24-1121-000.

Applicants: Top of the World Wind Energy, LLC.

Description: Compliance filing: Revised Market-Based Rate Tariff to be effective 2/1/2024.

Filed Date: 1/31/24.

Accession Number: 20240131-5295.

Comment Date: 5 p.m. ET 2/21/24.

Docket Numbers: ER24-1125-000.

Applicants: Wildflower Solar, LLC.

Description: Compliance filing: Revised Market-Based Rate Tariff to be effective 2/1/2024.

Filed Date: 1/31/24.

Accession Number: 20240131-5303.

Comment Date: 5 p.m. ET 2/21/24.

Docket Numbers: ER24-1126-000.

Applicants: Wildwood Solar I, LLC.

Description: Compliance filing: Revised Market-Based Rate Tariff to be effective 2/1/2024.

Filed Date: 1/31/24.

Accession Number: 20240131-5306.

Comment Date: 5 p.m. ET 2/21/24.

Docket Numbers: ER24-1127-000.

Applicants: Black Mesa Energy, LLC.

Description: Compliance filing: Revised Market-Based Rate Tariff to be effective 2/1/2024.

Filed Date: 1/31/24.

Accession Number: 20240131-5308.

Comment Date: 5 p.m. ET 2/21/24.

Docket Numbers: ER24-1128-000.

Applicants: Caprock Solar 1 LLC.

Description: Compliance filing: Revised Market-Based Rate Tariff to be effective 2/1/2024.

Filed Date: 1/31/24.

Accession Number: 20240131-5314.

Comment Date: 5 p.m. ET 2/21/24.

Docket Numbers: ER24-1129-000.

Applicants: Wildwood Solar II, LLC.

Description: Compliance filing: Revised Market-Based Rate Tariff to be effective 2/1/2024.

Filed Date: 1/31/24.

Accession Number: 20240131-5320.

Comment Date: 5 p.m. ET 2/21/24.

Docket Numbers: ER24-1130-000.

Applicants: Cimarron Windpower II, LLC.

Description: Compliance filing: Revised Market-Based Rate Tariff to be effective 2/1/2024.

Filed Date: 1/31/24.

Accession Number: 20240131-5324.

Comment Date: 5 p.m. ET 2/21/24.

Docket Numbers: ER24-1131-000.

Applicants: Colonial Eagle Solar, LLC.

Description: Compliance filing: Revised Market-Based Rate Tariff to be effective 2/1/2024.

Filed Date: 1/31/24.

Accession Number: 20240131-5327.

Comment Date: 5 p.m. ET 2/21/24.

Docket Numbers: ER24-1132-000.

Applicants: Conetoe II Solar, LLC.

Description: Compliance filing: Revised Market-Based Rate Tariff to be effective 2/1/2024.

Filed Date: 1/31/24.

Accession Number: 20240131-5330.

Comment Date: 5 p.m. ET 2/21/24.

Docket Numbers: ER24-1133-000.

Applicants: Frontier Windpower II, LLC.

Description: Compliance filing: Revised Market-Based Rate Tariff to be effective 2/1/2024.

Filed Date: 1/31/24.

Accession Number: 20240131-5334.

Comment Date: 5 p.m. ET 2/21/24.

Docket Numbers: ER24-1134-000.

Applicants: Frontier Windpower, LLC.

Description: Compliance filing: Revised Market-Based Rate Tariff to be effective 2/1/2024.

Filed Date: 1/31/24.

Accession Number: 20240131-5341.

Comment Date: 5 p.m. ET 2/21/24.

Docket Numbers: ER24-1135-000.

Applicants: HXOap Solar One, LLC.

Description: Compliance filing: Revised Market-Based Rate Tariff to be effective 2/1/2024.

Filed Date: 1/31/24.

Accession Number: 20240131-5347.

Comment Date: 5 p.m. ET 2/21/24.

Docket Numbers: ER24-1136-000.

Applicants: Ironwood Windpower, LLC.

Description: Compliance filing: Revised Market-Based Rate Tariff to be effective 2/1/2024.

Filed Date: 1/31/24.

Accession Number: 20240131-5349.

Comment Date: 5 p.m. ET 2/21/24.

Docket Numbers: ER24-1137-000.

Applicants: Pacific Gas and Electric Company.

Description: 205(d) Rate Filing: Modesto Irrigation District IA (SA 479) to be effective 4/1/2024.

Filed Date: 1/31/24.

Accession Number: 20240131-5350.

Comment Date: 5 p.m. ET 2/21/24.

Docket Numbers: ER24-1138-000.

Applicants: Jackpot Holdings, LLC.

Description: Compliance filing: Revised Market-Based Rate Tariff to be effective 2/1/2024.

Filed Date: 1/31/24.

Accession Number: 20240131-5355.

Comment Date: 5 p.m. ET 2/21/24.

Docket Numbers: ER24-1139-000.

Applicants: Kit Carson Windpower, LLC.

Description: Compliance filing: Revised Market-Based Rate Tariff to be effective 2/1/2024.

Filed Date: 1/31/24.

Accession Number: 20240131-5361.

Comment Date: 5 p.m. ET 2/21/24.

Docket Numbers: ER24-1140-000.

Applicants: Laurel Hill Wind Energy, LLC.

Description: Compliance filing: Revised Market-Based Rate Tariff to be effective 2/1/2024.

Filed Date: 1/31/24.

Accession Number: 20240131-5365.

Comment Date: 5 p.m. ET 2/21/24.

Docket Numbers: ER24-1141-000.

Applicants: Ledyard Windpower, LLC.

Description: Compliance filing: Revised Market-Based Rate Tariff to be effective 2/1/2024.

Filed Date: 1/31/24.

Accession Number: 20240131-5377.

Comment Date: 5 p.m. ET 2/21/24.

Docket Numbers: ER24-1142-000.

Applicants: North Allegheny Wind, LLC.

Description: Compliance filing: Revised Market-Based Rate Tariff to be effective 2/1/2024.

Filed Date: 1/31/24.

Accession Number: 20240131-5382.

Comment Date: 5 p.m. ET 2/21/24.

Docket Numbers: ER24-1144-000.

Applicants: Pacific Gas and Electric Company.

Description: 205(d) Rate Filing: Q4 2023 Quarterly Filing of City and County of San Francisco's WDT SA (SA 275) to be effective 12/31/2023.

Filed Date: 1/31/24.

Accession Number: 20240131-5388.

Comment Date: 5 p.m. ET 2/21/24.

Docket Numbers: ER24-1145-000.

Applicants: Tri-State Generation and Transmission Association, Inc.

Description: 205(d) Rate Filing: United Power, Inc. Withdrawal Agreement to be effective 4/1/2024.

Filed Date: 1/31/24.

Accession Number: 20240131-5401.

Comment Date: 5 p.m. ET 2/21/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 31, 2024.
Debbie-Anne A. Reese,
Acting Secretary.

[FR Doc. 2024-02380 Filed 2-5-24; 8:45 am]

BILLING CODE 6717-01-P